DEPARTMENT OF ENERGY

Federal Energy Regulatory Commission

[Docket No. EL21-87-000]

Arkansas River Power Authority, Delta-Montrose Electric Association, and Kit Carson Electric Cooperative, Inc. v. Tri-State Generation and Transmission Association, Inc.; Notice of Complaint

Take notice that on June 28, 2021, pursuant to sections 206, 306, and 309 of the Federal Power Act, 16 U.S.C. 824e, 825e, 825h and Rules 206 and 212 of the Federal Energy Regulatory Commission's (Commission) Rules of Practice and Procedure, 18 CFR 385.206 and 385.212 (2020), Arkansas River Power Authority (ARPA), Delta-Montrose Electric Association, and Kit Carson Electric Cooperative, Inc. (Joint Complaints) filed a formal complaint against Tri-State Generation and Transmission Association, Inc. (Tri-State or Respondent), alleging that Respondent's Open Access Transmission Tariff rates are unjust, unreasonable, unduly discriminatory, and preferential, all as more fully explained in the complaint.

The Joint Complainants certifies that copies of the complaint were served on representatives for Tri-State, and on all parties to Docket Nos. ER20-686-000 and ER20-2009-001 (consolidated), and EL20-25-000, ER20-688-000, ER20-726-000, and ER20-728-000 (not consolidated). Additionally, ARPA certifies that a non-public copy of the Complaint was served on representatives for Tri-State.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on July 28, 2021.

Dated: July 2, 2021.
Debbie-Anne A. Reese,
Deputy Secretary.

[FR Doc. 2021-14662 Filed 7-8-21; 8:45 am]

BILLING CODE 6717-01-P